DEPARTMENT OF DEFENSE

Office of the Secretary

Renewal of Department of Defense Federal Advisory Committees

AGENCY: Department of Defense (DoD).

ACTION: Renewal of Federal Advisory Committee.

SUMMARY: Under the provisions of 10 U.S.C. 7903, the Federal Advisory Committee Act of 1972, (5 U.S.C. Appendix), the Government in the Sunshine Act of 1976 (5 U.S.C. 552b), and 41 CFR 102-3.50(a), the Department of Defense gives notice that it is renewing the charter for the Ocean Research Advisory Panel (hereafter referred to as “the Panel”).

The Panel is a statutory federal advisory committee that shall provide the National Ocean Research Leadership Council (hereafter referred to as “the Council”) with independent scientific advice and recommendations. The Panel shall: (a) Provide advice on policies and procedures to implement the National Oceanographic Partnership Program; (b) provide advice on selection of partnership projects and allocations of funds for partnership projects for implementation under the program; (c) provide advice on matters relating to national oceanographic data and requirements; and (d) fulfill any additional responsibilities that the Committee considers appropriate.

The Panel shall report to the National Ocean Research Leadership Council.

The Panel shall consist of no less than 10 and no more than 18 members, representing the National Academy of Sciences, the National Academy of Engineering, the Institute of Medicine, ocean industries, State Governments, academia and others including individuals who are eminent in the fields of marine science, marine policy or related fields including ocean resource management.

Panel Members, shall be appointed by the Chairman and their appointments shall be renewed on an annual basis by the Secretary of Defense. The panel Membership shall select the Chairperson and Vice-Chairpersons of the Panel for renewable one-year terms. In addition, the Secretary of Defense may invite other distinguished Government officers to serve as non-voting observers of the Panel, and appoint consultants, with special expertise, to assist the Panel on an ad hoc basis. Non-voting observers and those non-voting experts and consultants appointed by the Secretary of Defense shall not count toward the Panel's total membership. Panel Members who are not full-time or permanent part-time federal officers or employees, shall be appointed to serve as experts and consultants under the authority of 5 U.S.C. 3109 and shall serve as special government employee members. With the exception of travel and per diem for official Panel related travel, Panel members shall serve without compensation.

The Secretary of Defense may approve the appointment of Panel members for one to four year terms of service; however, no member, unless authorized by the Secretary of Defense, may serve more than two consecutive terms of service. This same term of service limitation also applies to any DoD authorized subcommittees.

Each Panel member is appointed to provide advice on behalf of the government on the basis of his or her best judgment without representing any particular point of view and in a manner that is free from conflict of interest.

The Department, when necessary, and consistent with the Panel's mission and DoD policies and procedures, may establish subcommittees deemed necessary to support the Panel. Establishment of subcommittees will be based upon a written determination, to include terms of reference, by the Secretary of Defense, the Deputy Secretary of Defense or the advisory committee's sponsor. Such subcommittees shall not work independently of the chartered Panel, and shall report all their recommendations and advice to the Panel for full deliberation and discussion. Subcommittees have no authority to make decisions on behalf of the chartered Panel; nor can any subcommittee or its members update or report directly to the DoD or any Federal officers or employees.

All subcommittee members shall be appointed in the same manner as the Panel members; that is, the Secretary of Defense shall appoint subcommittee members even if the member in question is already a Panel member. Subcommittee members, with the approval of the Secretary of Defense, may serve a term of service on the subcommittee of one to four years; however, no member shall serve more than two consecutive terms of service on the subcommittee. Subcommittee members, if not full-time or part-time government employees, shall be appointed to serve as experts and consultants under the authority of 5 U.S.C. 3109, and shall serve as special government employees, whose appointments must be renewed by the Secretary of Defense on an annual basis. With the exception of travel and per diem for official Panel related travel, subcommittee members shall serve without compensation.

FOR FURTHER INFORMATION CONTACT: Jim Freeman, Deputy Advisory Committee Management Officer for the Department of Defense, 703-692-5952.

SUPPLEMENTARY INFORMATION: The Panel shall meet at the call of the Panel's Designated Federal Officer, in consultation with the Panel's Chairperson. The estimated number of Panel meetings is two per year. In addition, the Designated Federal Officer is required to be in attendance at all Panel and subcommittee meetings for the entire duration of each and every meeting; however, in the absence of the Designated Federal Officer, the Alternate Designated Federal Officer shall attend the entire duration of the Panel or subcommittee meeting.

Pursuant to 41 CFR 102-3.105(j) and 102-3.140, the public or interested organizations may submit written statements to Ocean Research Advisory Panel's membership about the Panel's mission and functions. Written statements may be submitted at any time or in response to the stated agenda of planned meeting of Ocean Research Advisory Panel. All written statements shall be submitted to the Designated Federal Officer for the Ocean Research Advisory Panel, and this individual will ensure that the written statements are provided to the membership for their consideration. Contact information for the Ocean Research Advisory Panel Designated Federal Officer can be obtained from the GSA's FACA Database— https://www.fido.gov/facadatabase/public.asp.

The Designated Federal Officer, pursuant to 41 CFR 102-3.150, will announce planned meetings of the Ocean Research Advisory Panel. The Designated Federal Officer, at that time, may provide additional guidance on the submission of written statements that are in response to the stated agenda for the planned meeting in question.

Dated: February 1, 2012.
Aaron Siegel,
Alternate OSD Federal Register Liaison Officer, Department of Defense.

[FR Doc. 2012-2579 Filed 2-3-12; 8:45 am]

BILLING CODE 5001-06-P